DEPARTMENT OF ENERGY

Federal Energy Regulatory Commission

Combined Notice of Filings

Take notice that the Commission has received the following Natural Gas Pipeline Rate and Refund Report filings:

Docket Number: PR21-18-000.

Applicants: Houston Pipe Line Company LP.

Description: Tariff filing per 284.123(b),(e)/: Houston Pipe Line Company LP COFT Rate Election Effective January 1, 2021 to be effective 1/1/2021 under PR21-18.

Filed Date: 1/28/2021.

Accession Number: 202101285106.

Comments/Protests Due: 5 p.m. ET 2/18/2021.

Docket Number: PR21-19-000.

Applicants: Energy Transfer Fuel, LP.

Description: Tariff filing per 284.123(b),(e)/: Energy Transfer Fuel LP COFT Rate Election Effective January 1, 2021 to be effective 1/1/2021 under PR21-19

Filed Date: 1/28/2021.

Accession Number: 202101285108.

Comments/Protests Due: 5 p.m. ET 2/18/2021.

Docket Number: PR21-20-000.

Applicants: Red Bluff Express Pipeline, LLC.

Description: Tariff filing per 284.123(b),(e)/: Red Bluff Express Pipeline, LLC COFT Rate Election Effective January 1, 2021 to be effective 1/1/2021 under PR21-20.

Filed Date: 1/28/2021.

Accession Number: 202101285109.

Comments/Protests Due: 5 p.m. ET 2/18/2021.

Docket Number: PR21-21-000.

Applicants: Black Hills/Kansas Gas Utility Company, LLC.

Description: Tariff filing per 284.123(b),(e)/: BHKG Revised Statement of Rates to be effective 1/1/2021 under PR21-21.

Filed Date: 1/29/2021.

Accession Number: 202101295133.

Comments/Protests Due: 5 p.m. ET 2/19/2021.

Docket Number: PR21-22-000.

Applicants: Southern California Gas Company.

Description: Tariff filing per 284.123(b),(e)+: Offshore_Delivery_Service_Rate_Revision_January_2021 to be effective 1/1/2021 under PR21-22.

Filed Date: 1/29/2021.

Accession Number: 202101295147.

Comments Due: 5 p.m. ET 2/19/2021.

284.123(g) Protests Due: 5 p.m. ET 3/30/2021.

Docket Number: PR21-23-000.

Applicants: Moss Bluff Hub, LLC

Description: Tariff filing per 284.123(b),(e)/: Moss Bluff Title Transfer Process Update eff 3-4-21 to be effective 3/4/2021 under PR21-23.

Filed Date: 1/29/2021.

Accession Number: 202101295206.

Comments/Protests Due: 5 p.m. ET 2/19/2021.

Docket Number: PR21-24-000.

Applicants: Public Service Company of Colorado.

Description: Tariff filing per 284.123(b),(e)+: Statement of Rates_1.1.21 to be effective 1/1/2021 under PR21-24.

Filed Date: 1/29/2021.

Accession Number: 202101295276.

Comments Due: 5 p.m. ET 2/19/2021.

284.123(g) Protests Due: 5 p.m. ET 3/30/2021.

Docket Numbers: RP20-1060-002.

Applicants: Columbia Gas Transmission, LLC.

Description: Compliance filing Compliance to RP20-1060-000 to be effective 2/1/2021.

Filed Date: 1/28/21..

Accession Number: 20210128-5140.

Comments Due: 5 p.m. ET 2/9/21.

Docket Numbers: RP21-406-000.

Applicants: NEXUS Gas Transmission, LLC.

Description: § 4(d) Rate Filing: Negotiated Rates—Various Releases eff 02-01-2021 to be effective 2/1/2021.

Filed Date: 1/28/21.

Accession Number: 20210128-5014.

Comments Due: 5 p.m. ET 2/9/21.

Docket Numbers: RP21-407-000.

Applicants: Texas Eastern Transmission, LP.

Description: § 4(d) Rate Filing: Negotiated Rates—Releases eff 02-01-2021 to be effective 2/1/2021.

Filed Date: 1/28/21.

Accession Number: 20210128-5030.

Comments Due: 5 p.m. ET 2/9/21.

Docket Numbers: RP21-408-000.

Applicants: Sierrita Gas Pipeline LLC.

Description: § 4(d) Rate Filing: FL&U Update Filing to be effective 3/1/2021.

Filed Date: 1/28/21.

Accession Number: 20210128-5055.

Comments Due: 5 p.m. ET 2/9/21.

Docket Numbers: RP21-409-000.

Applicants: TransColorado Gas Transmission Company LLC.

Description: § 4(d) Rate Filing: Housekeeping Matters Filing to be effective 3/1/2021.

Filed Date: 1/28/21.

Accession Number: 20210128-5084.

Comments Due: 5 p.m. ET 2/9/21.

Docket Numbers: RP21-410-000.

Applicants: Ruby Pipeline, L.L.C.

Description: § 4(d) Rate Filing: EPC and FL&U Percentage Quarterly Update and OPS Report to be effective 3/1/2021.

Filed Date: 1/28/21.

Accession Number: 20210128-5107.

Comments Due: 5 p.m. ET 2/9/21.

Docket Numbers: RP21-411-000.

Applicants: Colorado Interstate Gas Company, L.L.C.

Description: § 4(d) Rate Filing: Negotiated Rate Agreement Filing (Smith) to be effective 3/1/2021.

Filed Date: 1/28/21.

Accession Number: 20210128-5118.

Comments Due: 5 p.m. ET 2/9/21.

Docket Numbers: RP21-412-000.

Applicants: El Paso Natural Gas Company, L.L.C.

Description: § 4(d) Rate Filing: Negotiated Rate Update (Upstream) to be effective 3/1/2021.

Filed Date: 1/28/21.

Accession Number: 20210128-5130.

Comments Due: 5 p.m. ET 2/9/21.

Docket Numbers: RP21-413-000.

Applicants: Texas Eastern Transmission, LP.

Description: § 4(d) Rate Filing: Negotiated Rates—Amended EAP 911573 eff 02-01-21 to be effective 2/1/2021.

Filed Date: 1/28/21.

Accession Number: 20210128-5160.

Comments Due: 5 p.m. ET 2/9/21.

Docket Numbers: RP21-414-000.

Applicants: Rockies Express Pipeline LLC.

Description: § 4(d) Rate Filing: REX 2021-01-28 Negotiated Rate Agreement Amendments to be effective 3/5/2021.

Filed Date: 1/28/21.

Accession Number: 20210128-5204.

Comments Due: 5 p.m. ET 2/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2021.
Nathaniel J. Davis, Sr.,
Deputy Secretary.

[FR Doc. 2021-02418 Filed 2-4-21; 8:45 am]

BILLING CODE 6717-01-P